DEPARTMENT OF AGRICULTURE

Food Safety and Inspection Service

[Docket No. FSIS-2016-0023]

Codex Alimentarius Commission: Meeting of the Codex Committee on Processed Fruits and Vegetables

AGENCY: Office of the Deputy Under Secretary for Food Safety, USDA.

ACTION: Notice of public meeting and request for comments.

SUMMARY: The Office of the Deputy Under Secretary for Food Safety, U.S. Department of Agriculture (USDA), and the Agricultural Marketing Service (AMS), are sponsoring a public meeting on August 1, 2016. The objective of the public meeting is to provide information and receive public comments on agenda items and draft United States (U.S.) positions to be discussed at the 28th Session of the Codex Committee on Processed Fruits and Vegetables (CCPFV) of the Codex Alimentarius Commission (Codex), taking place in Washington, DC, September 12-16, 2016. The Deputy Under Secretary for Food Safety and the AMS recognize the importance of providing interested parties the opportunity to obtain background information on the 28th Session of the CCPFV and to address items on the agenda.

DATES: The public meeting is scheduled for Monday, August 1, 2016, from 1:00 p.m.-4:00 p.m.

ADDRESSES: The public meeting will take place at the USDA, Jamie L. Whitten Building, 1400 Independence Avenue SW., Room 107-A, Washington, DC 20250.

Documents related to the 28th Session of the CCPFV will be accessible via the Internet at the following address: http://www.codexalimentarius.org/meetings-reports/en/.

Dorian LaFond, U.S. Delegate to the 28th Session of the CCPFV, invites U.S. interested parties to submit their comments electronically to the following email address: Dorian.Lafond@usda.gov.

Call-In-Number:

If you wish to participate in the public meeting for the 28th Session of the CCPFV by conference call, please use the following call-in-number.

Call-in-Number: 1-888-844-9904

The participant code will be posted on the following Web page: http://www.fsis.usda.gov/wps/portal/fsis/topics/international-affairs/us-codex-alimentarius/public-meetingsRegistration:

Attendees may register to attend the public meeting by emailing uscodex@fsis.usda.gov by July 27,2016. Early registration is encouraged as it will expedite entry into the building. The meeting will be held in a Federal building. Attendees should bring photo identification and plan for adequate time to pass through security screening systems. Attendees who are not able to attend the meeting in person, but who wish to participate, may do so by phone.

For Further Information About the 28th Session of the CCPFV Contact: Dorian LaFond, Agricultural Marketing Service, Fruits and Vegetables Division, Mail Stop 0235, Room 2086, South Agriculture Building, 1400 Independence Avenue SW., Washington, DC 20250-0235, Telephone: (202) 690-4944, Fax: (202) 720-0016, Email: Dorian.Lafond@usda.gov.

For Further Information About the Public Meeting Contact: Doreen Chen-Moulec, U.S. Codex Office, 1400 Independence Avenue SW., South Agriculture Building, Room 4865, Washington, DC 20250. Telephone: (202) 205-7760, Fax: (202) 720-3157, Email: Doreen.Chen-Moulec@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The CCPFV is responsible for elaborating worldwide standards and related texts for all types of processed fruits and vegetables including, but not limited to canned, dried, and frozen products, as well as fruit and vegetable juices and nectars.

The Committee is hosted by the United States.

Issues To Be Discussed at the Public Meeting

The following items on the Agenda for the 28th Session of the CCPFV will be discussed during the public meeting:

• Matters referred to the Committee by Codex and its subsidiary bodies;

• Proposed draft Annex on canned pineapples (for inclusion in the Standard for Certain Canned Fruits (CODEX STAN 319-2015) (Step 4);

• Proposed draft Annexes on quick frozen vegetables (for inclusion in the Standard for Quick Frozen Vegetables (CODEX STAN 320-2015) (Step 4) and methods of analysis for quick frozen vegetables (for inclusion in Section 11—Methods of Analysis and Sampling of CODEX STAN 320-2015);

• Discussion paper on standardization of dry and dried produce;

• Food additive provisions in Codex standards for processed fruits and vegetables (canned chestnuts and canned chestnut puree and pickled fruits and vegetables); and

• Status of work on the revision of Codex standards for processed fruits and vegetables.

Each issue listed will be fully described in documents distributed, or to be distributed, by the Secretariat before the Meeting. Members of the public may access or request copies of these documents (see ADDRESSES).

Public Meeting

At the August 1, 2016, public meeting, draft U.S. positions on the agenda items will be described and discussed, and attendees will have the opportunity to pose questions and offer comments. Written comments may be offered at the meeting or sent to the U.S. Delegate for the 28th Session of the CCPFV, Dorian LaFond (see ADDRESSES). Written comments should state that they relate to the activities of the 28th Session of the CCPFV.

Additional Public Notification

Public awareness of all segments of rulemaking and policy development is important. Consequently, FSIS will announce this Federal Register publication on-line through the FSIS Web page located at: http://www.fsis.usda.gov/federal-register .

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture Director, Office of Adjudication, 1400 Independence Avenue SW., Washington, DC 20250-9410.

Fax: (202) 690-7442.

E-mail: program.intake@usda.gov.

Persons with disabilities who require alternative means for communication (Braille, large print, audiotape, etc.), should contact USDA's TARGET Center at (202) 720-2600 (voice and TDD).

Done at Washington, DC, on June 27, 2016.
Paulo Almeida,
Acting U.S. Manager for Codex Alimentarius.

[FR Doc. 2016-15599 Filed 6-29-16; 8:45 am]

BILLING CODE 3410-DM-P